DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 27, 2005.

Interested persons are invited to submit written comments regarding the subject matter of the investigations to the Director, Division of Trade Adjustment Assistance, at the address shown below, not later than December 27, 2005.

The petitions filed in this case are available for inspection at the Office of the Director, Division of Trade Adjustment Assistance, Employment and Training Administration, U.S. Department of Labor, Room C-5311, 200 Constitution Avenue, NW., Washington, DC 20210.

Signed at Washington, DC this 6th day of December 2005.
Erica R. Cantor,
Director, Division of Trade Adjustment Assistance.

Appendix—29 TAA
[Petitions instituted between 11/21/05 and 11/25/05]
TA-W | Subject firm (Petitioners) | Location | Date of institution | Date of petition
58382 | ICT Group (State) | Skokane Valley, WA | 11/21/05 | 11/09/05
58383 | Diversco Integrated Services (Comp) | Lawrenceburg, TN | 11/21/05 | 11/18/05
58384 | Bekaert Corporation (Comp) | Dyersburg, TN | 11/21/05 | 11/18/05
58385 | American Remanufactures, Inc. (Comp) | Bedford, NH | 11/21/05 | 11/18/05
58386 | Shepherd Hardware Products, LLC (Wkrs) | Three Oaks, MI | 11/21/05 | 11/16/05
58387 | Koret of California, Inc. (Wkrs) | Oakland, CA | 11/21/05 | 11/04/05
58388 | Chuan Hing Sewing Co. (Wkrs) | San Francisco, CA | 11/22/05 | 11/21/05
58389 | Glass Group, Inc. (The) (USW) | Millville, NJ | 11/22/05 | 11/21/05
58390 | JK Tool (State) | Portageville, MO | 11/22/05 | 11/21/05
58391 | John Crane, Inc. (Wkrs) | Vandalia, IL | 11/22/05 | 11/21/05
58392 | InFocus Corp. (State) | Wilsonville, OR | 11/22/05 | 11/21/05
58393 | E.J. Snyder and Company, Inc. (Comp) | Albemarle, NC | 11/22/05 | 11/18/05
58394 | Georgia-Pacific Corp. (Comp) | Old Town, ME | 11/22/05 | 11/18/05
58395 | Boeing Company (UAW) | Long Beach, CA | 11/22/05 | 11/18/05
58396 | Leesburg Knit Mill (Comp) | Leesburg, AL | 11/22/05 | 11/21/05
58397 | J.S. McCarthy Printers (Wkrs) | Augusta, ME | 11/23/05 | 11/15/05
58398 | Operations Centre (The) (Comp) | Rockford, IL | 11/23/05 | 11/22/05
58399 | Applied Interconnect (Comp) | Sunnyvale, CA | 11/23/05 | 11/11/05
58400 | Moltech Corporation (State) | Alachua, FL | 11/23/05 | 11/22/05
58401 | Accutech Mold and Engineering (State) | Little Falls, MN | 11/23/05 | 11/22/05
58402 | Pressed Steel Tank (Wkrs) | West Allis, WI | 11/23/05 | 11/22/05
58403 | Integreo, Inc. (State) | Tifton, GA | 11/23/05 | 11/10/05
58404 | Weston Food Ltd. (Comp) | West Hazleton, PA | 11/23/05 | 11/22/05
58405 | NSK Corporation (UAW) | Ann Arbor, MI | 11/23/05 | 11/18/05
58406 | Adobe Air (State) | Phoenix, AZ | 11/25/05 | 11/22/05
58407 | Franklin Industries Company (USWA) | Franklin, PA | 11/25/05 | 11/15/05
58408 | United States Sugar Corporation (Comp) | Bryant, FL | 11/25/05 | 11/21/05
58409 | Shelby Automobiles, Inc. (Comp) | Las Vegas, NV | 11/25/05 | 11/15/05
58410 | SKF Sealing Solutions (Comp) | Springfield, SD | 11/25/05 | 11/23/05

[FR Doc. E5-7381 Filed 12-14-05; 8:45 am]

BILLING CODE 4510-30-P